DEPARTMENT OF DEFENSE

Office of the Secretary

[Docket ID: DOD-2016-OS-0105]

Proposed Collection; Comment Request

AGENCY: Defense Finance and Accounting Service (DFAS), DoD.

ACTION: Notice.

SUMMARY: In compliance with the Paperwork Reduction Act of 1995, the Defense Finance and Accounting Service (DFAS) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 23, 2016.

ADDRESSES: You may submit comments, identified by docket number and title, by any of the following methods:

• Federal eRulemaking Portal: http://www.regulations.gov. Follow the instructions for submitting comments.

• Mail: Department of Defense, Office of the Deputy Chief Management Officer, Directorate for Oversight and Compliance, 4800 Mark Center Drive, Mailbox #24, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Defense Finance and Accounting Service (DFAS), 555 E. 88th Street, Bldg 10, Bratenahl, OH 44108-1068. ATTN: Craig Maddox, System Manager, myPay, (216) 204-2744 or craig.s.maddox.civ@mail.mil.

SUPPLEMENTARY INFORMATION:

Title; Associated Form; and OMB Number: DFAS myPay Web Application, 0730-TBD.

Needs and Uses: The information collection requirement is necessary for DFAS to provide financial support to its customer base that opts to use the DFAS myPay Web Application for self-service management of their personnel financial pay accounts.

Affected Public: Individuals and households.

Annual Burden Hours: 300,175 hours.

Number of Respondents: 1,200,698.

Responses per Respondent: 1 (average).

Annual Responses: 1,200,698.

Average Burden per Response: 15 minutes.

Frequency: On occasion—respondents complete as needed.

Respondents are DFAS customers who are military retirees, annuitants of military retirees, and former spouses of military retirees. These customers use the DFAS myPay Web Application as a means of self-service management of their DFAS myPay financial pay account. Online self-service transactions include the following:

• Name Changes

• Correspondence Address Changes

• Payment Address Changes

• Allotment Changes

• Beneficiary for Arrears Changes

• Direct Deposit Changes

• Federal Tax Withholding Changes

• State Tax Withholding Changes

• Report of Existence Submissions

• Email Address Changes

• Security Questions Changes

• Password Changes

• PIN Changes

• Login ID Changes

• Limited Access Account Changes

• Electronic/Hard-Copy Receipt Preference for IRS Form 1099-R Election Changes

• Electronic/Hard-Copy Receipt Preference for IRS Form 1095 Election Changes

• Electronic/Hard-Copy Receipt Preference for Account Alerts Election Changes

• Single Sign-On (SSO) Election Changes

Dated: October 19, 2016.
Aaron Siegel,
Alternate OSD Federal Register Liaison Officer, Department of Defense.

[FR Doc. 2016-25643 Filed 10-21-16; 8:45 am]

BILLING CODE 5001-06-P